DEPARTMENT OF TRANSPORTATION

Federal Aviation Administration (FAA)

Notice of Opportunity for Public Comment on Surplus Property Release at Grenada Municipal Airport, Grenada, MS

AGENCY: Federal Aviation Administration (FAA), DOT.

ACTION: Notice of intent to rule on land release request.

SUMMARY: Under the provisions of Title 49, U.S.C. Section 47153(c), notice is being given that the FAA is considering a request from the City of Grenada to waive the requirement that a 10.04-acre parcel of surplus property, located at the Grenada Municipal Airport, be used for aeronautical purposes.

DATES: Comments must be received on or before October 1, 2001.

ADDRESSES: Comments on this notice may be mailed or delivered in triplicate to the FAA at the following address: Jackson Airports District Office, 100 West Cross Street, Suite B, Jackson, MS 39208-2307.

In addition, one copy of any comments submitted to the FAA must be mailed or delivered to The Honorable J. Mike Hyneman, Mayor of Grenada, Mississippi at the following address: P.O. Box 310, Grenada, MS 38902-0310.

FOR FURTHER INFORMATION CONTACT: David Shumate, Program Manger, Jackson Airports District Office, 100 West Cross Street, Suite B, Jackson, MS 39208-2307, (601) 664-9882. The land release request may be reviewed in person at this same location.

SUPPLEMENTARY INFORMATION: The FAA is reviewing a request by City of Grenada, MS to release 10.04 acres of surplus property at the Grenada Municipal Airport. The property will be purchased by Averitt Express which is a trucking company and used as a distribution terminal for their company. The property fronts Air Industrial Park Road and is located in the industrial park where simular businesses exist. The net proceeds from the sale of this property will be used for airport purposes.

Any person may inspect the request in person at the FAA office listed above under FOR FURTHER INFORMATION CONTACT.

In addition, any person may, upon request, inspect the request, notice and other documents germane to the request in person at the City of Grenada, Mississippi.

Issued in Jackson, Mississippi, on August 6, 2001.
Wayne Atkinson,
Manager, Jackson Airports District Office, Southern Region.

[FR Doc. 01-22048 Filed 8-30-01; 8:45 am]

BILLING CODE 4910-13-M